DEPARTMENT OF COMMERCE

International Trade Administration

[A-570-832]

Pure Magnesium From the People's Republic of China: Extension of Time for the Final Results of the Antidumping Duty Administrative Review

AGENCY: Import Administration, International Trade Administration, Department of Commerce.

Effective Date: September 29, 2008.

FOR FURTHER INFORMATION CONTACT: Laurel LaCivita, AD/CVD Operations, Office 8, Import Administration, International Trade Administration, U.S. Department of Commerce, 14th Street and Constitution Avenue, NW., Washington, DC 20230; telephone: (202) 482-6478.

Background

On June 9, 2008, the Department of Commerce (“the Department”) published the preliminary results of review for the period May 1, 2006, through April 30, 2007. See Pure Magnesium from the People's Republic of China: Preliminary Results of Antidumping Duty Administrative Review, 73 FR 32549 (June 9, 2008). The final results of review are currently due no later than October 7, 2008.

Extension of Time Limits for the Final Results of Review

Section 751(a)(3)(A) of the Tariff Act of 1930, as amended (“the Act”), requires the Department to issue final results within 120 days after the date on which the preliminary results are published. However, if it is not practicable to complete the review within this time period, section 751(a)(3)(A) of the Act allows the Department to extend the time period to a maximum of 180 days. Completion of the final results of the administrative review within the 120-day period is not practicable because the Department requires additional time to analyze new surrogate value information, to analyze case and rebuttal briefs, and to hold a public hearing.

Because it is not practicable to complete this review within the time specified under the Act, we are extending the time period for issuing the final results of the administrative review to 180 days, until December 6, 2008, in accordance with section 751(a)(3)(A) of the Act. Because December 6, 2008 falls on a Saturday, the new deadline for the final results will be the next business day, Monday, December 8, 2008. We are publishing this notice pursuant to sections 751(a) and 777(i) of the Act.

Dated: September 19, 2008.
Stephen J. Claeys,
Deputy Assistant Secretary for Import Administration.

[FR Doc. E8-22883 Filed 9-26-08; 8:45 am]

BILLING CODE 3510-DS-P